DEPARTMENT OF DEFENSE

Department of the Air Force

Active Duty Service Determinations for Civilian or Contractual Groups

On May 26, 2004, the Secretary of the Air Force, acting as Executive Agent of the Secretary of Defense, determined that the service of the group known as the “U.S. Civilian Crewmembers of the Flotilla Alaska Barge and Transport Company, Who Worked on the Inland and Coastal Waters of Vietnam as a Result of Contract MST-OT-35 (X) With the U.S. Navy for Direct Support of Military Operations in Vietnam From April 1966 Through April 1975” shall not be considered “active duty” for purposes of all laws administered by the Department of Veterans Affairs (VA).

For further information contact Mr. James D. Johnston at the Secretary of the Air Force Personnel Council (SAFPC); 1535 Command Drive, EE Wing, 3d Fl.; Andrews AFB, MD 20762-7002.

Pamela D. Fitzgerald,
Air Force Federal Register Liaison Officer.

[FR Doc. 04-16166 Filed 7-15-04; 8:45 am]

BILLING CODE 5001-05-P